DEPARTMENT OF THE INTERIOR

Bureau of Land Management

[UT-921-08-1430-ET-1920-4625-24-1A; UTU 86103]

Notice of Proposed Legislative Withdrawal and Public Meeting; Utah

AGENCY: Bureau of Land Management, Interior.

ACTION: Notice.

SUMMARY: The U.S. Department of the Army, Corps of Engineers, has filed an application requesting the Secretary of the Interior to process, in accordance with the Engle Act (43 U.S.C. 155-158), a proposed legislative withdrawal from all forms of appropriation under the public land laws, including the mining laws, of approximately 18,248 acres of public lands located in Tooele County, Utah. The withdrawal would reserve the lands for use as a military training range. This notice temporarily segregates the lands from surface entry and mining for up to two years while the legislative withdrawal application is being processed.

DATES: A public meeting will be held from 5 p.m. to 7 p.m. on Wednesday, September 24, 2008, at the BLM Salt Lake District Office, 2370 South 2300 West, Salt Lake City, Utah. Written comments must be received on or before November 6, 2008.

ADDRESSES: Comments should be sent to the State Director, Utah State Office, Bureau of Land Management, P.O. Box 45155, Salt Lake City, Utah 84145, or e-mail: rhonda_flynn@blm.gov.

FOR FURTHER INFORMATION CONTACT: Rhonda Flynn, Realty Specialist, at the above address; telephone (801) 539-4132; e-mail: rhonda_flynn@blm.gov.

SUPPLEMENTARY INFORMATION: Acting on behalf of the Department of the Air Force, Hill Air Force Base, the U.S. Army Corps of Engineers (ACE) has filed an application with the Bureau of Land Management (BLM) requesting the Secretary of the Interior to process a legislative withdrawal pursuant to the Engle Act (43 U.S.C. 155-158). The proposed withdrawal would withdraw and reserve the following described public lands located within the exterior boundaries of the Utah Test and Training Range (UTTR) in Tooele County, Utah, from settlement, sale, location or entry under the general land laws, including the mining laws, subject to valid existing rights, for use as a military training range:

Salt Lake Meridian

T. 2 S., R. 14 W.,

secs. 32 and 36.

T. 2 S., R. 15 W.,

sec. 32, W½;

sec. 36.

T.3 S., R. 15 W.,

sec. 2, lots 1-4 inclusive, S½N½ and S½;

secs. 16, 32 and 36.

T. 2 S., R. 16 W.,

secs. 32 and 36.

T. 2 S., R. 17 W.,

secs. 32 and 36.

T. 2 N., R. 15 W.,

secs. 2, 16, 32 and 36.

T. 2 S., R. 18 W.,

sec. 36.

T. 3 S., R. 18 W.,

secs. 2, 16, 32 and 36.

T. 3 S., R. 19 W.,

secs 2, 16, 32 and 36.

T.4 S., R. 19 W.,

secs. 2, 16, 32 and 36.

The areas described contain approximately 18,248 acres in Tooele County.

The purpose of the proposed legislative withdrawal is to withdraw and reserve the lands for use as a military training range, involving aerial bombing and a gunnery range necessary for national security. The withdrawal would be established by an act of Congress approved by the President. The duration of the withdrawal would be determined by Congress.

For a period of 90 days from the date of publication of this notice, all persons who wish to submit comments, suggestions, or objections in connection with the proposed action may present their views in writing to the BLM Utah State Director, at the address noted above.

Comments, including names and street addresses of respondents, and records relating to the proposed land transfer will be available for public review during regular business hours at the BLM Utah State Office at the address specified above. Individual respondents may request confidentiality. Before including your address, phone number, e-mail address, or other personal identifying information in your comment, you should be aware that your entire comment—including your personal identifying information—may be made publicly available at any time. While you can ask us in your comment to withhold your personal identifying information from public review, we cannot guarantee that we will be able to do so.

A public meeting has been scheduled in connection with the proposed legislative withdrawal. The purpose of the meeting is to provide information and solicit public comments on the proposed action.

There are no suitable alternative sites since the lands herein described lie within the exterior boundaries of the existing UTTR.

This withdrawal application will be processed in accordance with the regulations set forth in 43 CFR part 2300.

For a period of two years from the date of publication of this notice in the Federal Register, the lands will be segregated as specified above unless the application is denied or canceled or the withdrawal is approved prior to that date. Land uses currently occurring may continue during the segregative period. If the proposed legislative withdrawal has been submitted to Congress but not enacted into law by the end of the two-year segregation period, consideration will be given to entertaining an application for a temporary withdrawal in aid of pending legislation.

(Authority: 43 CFR 2310.3-1(b)(1))

Selma Sierra,
State Director.

[FR Doc. E8-18306 Filed 8-7-08; 8:45 am]

BILLING CODE 4310-DQ-P